OFFICE OF PERSONNEL MANAGEMENT

Submission for Review: USAJOBS Resume Builder and Application Profile, OMB Control No. 3206-0219

AGENCY: Office of Personnel Management (OPM).

ACTION: 30-Day notice and request for comments.

SUMMARY: In accordance with the Paperwork Reduction Act of 1995, OPM is proposing revisions to a currently approved information collection, USAJOBS Resume Builder and Application Profile, OMB Control No. 3206-0219.

DATES: Comments are encouraged and will be accepted until August 5, 2024. This process is conducted in accordance with 5 CFR 1320.1.

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: For specific questions related to this information collection activities, please contact. Human Resources Solution, Office of Personnel Management, 1900 E Street NW, Washington, DC 20415, Attention: Cori Schauer, or via electronic mail to USAJOBSEngagement@opm.gov or 202-606-1800.

SUPPLEMENTARY INFORMATION: OPM, in accordance with the Paperwork Reduction Act of 1995 (PRA) (44 U.S.C. 3506(c)(2)(A)), provides the public with an opportunity to comment on proposed, revised, and continuing collections of information. This helps the Agency assess the impact of its information collection requirements and minimize the public's reporting burden. It also helps the public understand the Agency's information collection requirements and provide the requested data in the desired format. OPM is soliciting comments on the proposed information collection request (ICR) that is described below. This information collection was previously published in the Federal Register on April 16, 2024, at 88 FR 74540 allowing for a 60-day public comment period. No comments were received for this information collection.

The purpose of this notice is to allow an additional 30 days for public comments.

The Agency is especially interested in public comment addressing the following issues: (1) whether this collection is necessary to the proper functions of the Agency; (2) whether this information will be processed and used in a timely manner; (3) the accuracy of the burden estimate; (4) ways in which the Agency may enhance the quality, utility, and clarity of the information to be collected; and (5) ways in which the Agency may minimize the burden of this collection on the respondents, including through the use of information technology. Written comments received in response to this notice will be considered public records.

Analysis

Agency: Office of Personnel Management.

Title: OPM Customer Experience.

OMB Number: 3206-0219.

Affected Public: Individuals.

Number of Resumes Built in One Year: 25,725,380.

Estimated Time per Respondent: 38 minutes.

Total Burden Hours for Resume Builder: 16,206,989 hours.

Number of Profiles Created in One Year: 3,013,003.

Estimated Time per Profile: 5 minutes.

Total Burden Hours for Application Profile: 241,040 hours.

Total Burden Hours for Resume Builder and Application Profile: 16,448,029 hours.

Office of Personnel Management.
Kayyonne Marston,
Federal Register Liaison.

[FR Doc. 2024-14680 Filed 7-3-24; 8:45 am]

BILLING CODE 6325-43-P